EQUAL EMPLOYMENT OPPORTUNITY COMMISSION

Sunshine Act Meeting

AGENCY: Equal Employment Opportunity Commission.

DATE AND TIME: Wednesday, November 16, 2005, 10 a.m. Eastern time.

Place: Clarence M. Mitchell, Jr. Conference Room on the Ninth Floor of the EEOC Office Building, 1801 “L” Street, NW., Washington, DC 20507.

Status: The meeting will be open to the public.

Matters to be Considered

Open Session

1. Announcement of Notation Votes,

2. Report on Commission Operations: EEOC Actions in the Aftermath of Hurricane Katrina, and

3. Revisions to the Employer Information Report (EEO-1).

Note: In accordance with the Sunshine Act, the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings.

FOR FURTHER INFORMATION CONTACT: Stephen Llewellyn, Acting Executive Officer at (202) 663-4070.

Dated: November 3, 2005.
Stephen Llewellyn,
Acting Executive Officer, Executive Secretariat.

[FR Doc. 05-22283 Filed 11-3-05; 3:42 pm]

BILLING CODE 6790-06-M